DEPARTMENT OF JUSTICE

Parole Commission

Sunshine Act Meeting

TIME AND DATE: 11:00 a.m. Tuesday, February 13, 2018.

PLACE: U.S. Parole Commission, 90 K Street NE, 3rd Floor, Washington, DC.

STATUS: Open.

MATTERS TO BE CONSIDERED: Approval of September 26, 2017 minutes; Reports from the Vice Chairman, Commissioners and Senior Staff; Discussion of potential amendment to 28 CFR 2.25 to permit hearings by videoconference to include parole and supervised release termination hearings; Discussion of potential modification of 28 CFR 2.68(i)(1) to require one Commissioner vote for Transfer Treaty determinations.

CONTACT PERSON FOR MORE INFORMATION: Jacqueline Graham, Staff Assistant to the Chairman, U.S. Parole Commission, 90 K Street NE, 3rd Floor, Washington, DC 20530, (202) 346-7010.

Dated: February 2, 2018.
Patricia K. Cushwa,
Vice Chairman, U.S. Parole Commission.

[FR Doc. 2018-02448 Filed 2-2-18; 4:15 pm]

BILLING CODE 4410-31-P